DEPARTMENT OF HOUSING AND URBAN DEVELOPMENT

[Docket No. FR-5376-N-87]

Notice of Submission of Proposed Information Collection to OMB; Emergency Comment Request; Family Unification Program

AGENCY: Office of the Chief Information Officer, HUD.

ACTION: Notice of proposed information collection.

SUMMARY: The proposed information collection requirement described below has been submitted to the Office of Management and Budget (OMB) for emergency review and approval, as required by the Paperwork Reduction Act of 1995 (44 U.S.C. Chapter 35, as amended). The Department is soliciting public comments on the subject proposal, to assure better understanding of the reporting requirements and consistency in the submission of data.

Public Housing Agencies (PHA) application for funding of new Housing Choice Vouchers to promote family unification. The Family Unification Program (FUP) is a program under which vouchers are provided to families for whom the lack of adequate housing is a primary factor in the imminent placement of the family's child, or children, in out-of-home care; or the delay in the discharge of the child, or children, to the family from out-of-home care. Youths at least 18 years old and not more than 21 years old (have not reached 22nd birthday) who left foster care at age 16 or older and who do not have adequate housing are also eligible to receive housing assistance under the FUP. A FUP voucher issued to such a youth may only be used to provide housing assistance for the youth for a maximum of 18 months.

DATES: Comments Due Date: September 28, 2010.

ADDRESSES: Interested persons are invited to submit comments regarding this proposal. Comments must be received within seven (7) days from the date of this Notice. Comments should refer to the proposal by name/or OMB approval number and should be sent to: HUD Desk Officer, Office of Management and Budget, New Executive Office Building, Washington, DC 20503; e-mail: ORA_Submission @sombrero; fax: (202)395-5806.

FOR FURTHER INFORMATION CONTACT: Leroy McKinney, Jr., Departmental Reports Management Officer, QDAM, Department of Housing and Urban Development, 451 7th Street, SW., Room 4178, Washington, DC 20410-5000; telephone 202-402-5564 (this is not a toll-free number) or e-mail Mr. McKinney at LeroyMcKinneyJr@HUD.gov for a copy of the proposed forms, or other available information. Copies of available documents submitted to OMB may be obtained from Mr. McKinney.

SUPPLEMENTARY INFORMATION: This Notice informs the public that the U.S. Department of Housing and Urban Development (HUD) has submitted to OMB, for emergency processing, a proposed information collection that supports Family Unification Program (FUP).

Title of Proposed Notice: Family Unification Program (FUP).

Description of Information Collection: Public Housing Agencies (PHA) application for funding of new Housing Choice Vouchers to promote family unification. The Family Unification Program (FUP) is a program under which vouchers are provided to families for whom the lack of adequate housing is a primary factor in the imminent placement of the family's child, or children, in out-of-home care; or the delay in the discharge of the child, or children, to the family from out-of-home care. Youths at least 18 years old and not more than 21 years old (have not reached 22nd birthday) who left foster care at age 16 or older and who do not have adequate housing are also eligible to receive housing assistance under the FUP. A FUP voucher issued to such a youth may only be used to provide housing assistance for the youth for a maximum of 18 months.

OMB Control Number: 2577-0259.

Agency Form Number: (SF424, SF LLL, HUD-96011, HUD-2993, HUD-96010, HUD-50058, HUD 2880, HUD-2991, HUD-2990.)

Members of Affected Public: Public housing authorities, Public Child Welfare Agencies.

Estimation of the total numbers of hours needed to prepare the information collection including number of respondents, frequency of responses, and hours of responses: Burden hours per response: 27.27 hours. The total burden hours, estimating 265 respondents applicants and 42 successful applicants is 5811 hours.

Status of the proposed information collection: This is a revision to a exiting information collection.

Authority: The Paperwork Reduction Act of 1995, 44 U.S.C. Chapter 35, as amended.

Dated: September 14, 2010.
Leroy McKinney, Jr.,
Departmental Reports Management Officer, Office of the Chief Information Officer.

[FR Doc. 2010-23575 Filed 9-20-10; 8:45 am]

BILLING CODE 4210-67-P